DEPARTMENT OF THE TREASURY

Internal Revenue Service

26 CFR Part 1

[TD 9176]

RIN 1545-BC35

Elimination of Forms of Distribution in Defined Contribution Plans; Correction

AGENCY: Internal Revenue Service (IRS), Treasury.

ACTION: Correcting amendment.

SUMMARY: This document contains corrections to (TD 9176), which were published in the Federal Register on Tuesday, January 25, 2005 (70 FR 3475). These final regulations would modify the circumstances under which certain forms of distribution previously available are permitted to be eliminated from qualified defined contribution plans.

DATES: This correction is effective January 25, 2005.

FOR FURTHER INFORMATION CONTACT: Vernon S. Carter at (202) 622-6060 (not a toll-free number).

SUPPLEMENTARY INFORMATION:

Background

The final regulations (TD 9176) that are the subject of these corrections are under section 411(d)(6) of the Internal Revenue Code.

Need for Correction

As published, TD 9176 contains errors that may prove to be misleading and are in need of clarification.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *.

§ 1.411(d)-4 [Corrected]

Section 1.411(d)-4, A-2, paragraph (e)(3), Example (i) and (ii), in each location the year “2004” is removed, and the year “2005” is added in its place.

Cynthia E. Grigsby,
Acting Chief, Publications and Regulations Branch, Legal Processing Division, Associate Chief Counsel (Procedures and Administration).

[FR Doc. 05-4502 Filed 3-7-05; 8:45 am]

BILLING CODE 4830-01-P